DEPARTMENT OF HOMELAND SECURITY

Bureau of Customs and Border Protection

[CBP Decision 05-17]

Recordation of Trade Name: “JOY ENTERPRISES”

AGENCY: Customs and Border Protection (CBP).

ACTION: Notice of final action.

SUMMARY: This document gives notice that “JOY ENTERPRISES” has been recorded with CBP as a trade name by Shell Stores Corporation d/b/a Joy Enterprises, a Florida corporation organized under the laws of the State of Florida, 1862 M.L. King Blvd., Riviera Beach, Florida 33404-7105.

The application for trade name recordation was properly submitted to CBP and published in the Federal Register. As no public comments in opposition to the recordation of this trade name were received by CBP within the 60-day comment period, the trade name has been duly recorded with CBP and will remain in force as long as this trade name is in use by this manufacture, unless the recordant requests cancellation of the recordation or any other provision of law so requires.

EFFECTIVE DATE: November 12, 2004

FOR FURTHER INFORMATION CONTACT: La Verne Watkins, Paralegal Specialist, Intellectual Property Rights Branch, Office of Regulations and Rulings, U.S. Customs and Border Protection, 1300 Pennsylvania Avenue, NW., Mint Annex, Washington, DC 20229; (202) 572-8710.

SUPPLEMENTARY INFORMATION: Trade names that are being used by manufacturers or traders may be recorded with Customs and Border Protection (CBP) to afford the particular business entity with increased commercial protection. CBP procedures for recording trade names are provided at § 133.11 et seq., of the Customs Regulations (19 CFR parts 1-140). Pursuant to this regulatory provision, Shell Stores Corporation d/b/a Joy Enterprises, a Florida corporation organized under the laws of the State of Florida, 1862 M.L. King Blvd., Riviera, Florida 33404-7105, applied to CBP for protection of its manufacturer's trade name, “JOY ENTERPRISES.”

On Friday, November 12, 2004, CBP published a notice of application for the recordation of the trade name “JOY ENTERPRISES” in the Federal Register (69 FR 65445). The application advised that before final action would be taken on the application, consideration would be given to any relevant data, views, or arguments submitted in writing in opposition of the recordation of this trade name. The closing day for the comment period was January 11, 2005.

As of the end of the comment period, January 11, 2005, no comments were received. Accordingly, as provided by § 133.14, of the Customs Regulations, “JOY ENTERPRISES” is recorded with CBP as the trade name used by the manufacturer, Shell Stores Corporation d/b/a Joy Enterprises, and will remain in force as long as this trade name is in use by this manufacturer unless the recordant requests cancellation of the recordation or any other provision of law so requires.

Dated: May 11, 2005.
George Frederick McCray,
Esq. Chief, Intellectual Property Rights Branch.

[FR Doc. 05-10079 Filed 5-19-05; 8:45 am]

BILLING CODE 4820-02-P